DEPARTMENT OF JUSTICE

Notice of Lodging Proposed Consent Decree

In accordance with Departmental Policy, 28 CFR 50.7, notice is hereby given that a proposed Consent Decree in United States v. Toy R. Arnett, Jr., et al., No. 3:05cv270-RS, was lodged with the United States District Court for the Northern District of Florida on November 14, 2006.

This proposed Consent Decree concerns a complaint filed by the United States against Toy R. Arnett, Jr., Rena M. Arnett, the Nesius Family Limited Partnership, Rick D. Nesius, Shannon K. Nesius, and Faith Assembly Christian Church of Miramar Beach, Inc., pursuant to Sections 301 and 404 of the Clean Water Act, 33 U.S.C. 1311 and 1344, with respect to Defendants' alleged violations of the Clean Water Act at two sites by discharging pollutants into waters of the United States without or in violation of a permit. The proposed Consent Decree resolves these allegations by requiring the restoration of portions of the wetlands at issue, mitigation, and the payment of civil penalties. The Department of Justice will accept written comments relating to this proposed Consent Decree for thirty (30) days from the date of publication of this Notice. Please address comments to Martin F. McDermott, United States Department of Justice, Environment and Natural Resources Division, Environmental Defense Section, P.O. Box 23986, Washington, DC 20026-3986 and refer to United States v. Toy R. Arnett, Jr., et al., DJ#90-5-1-1-17459.

The proposed Consent Decree may be examined at the Clerk's Office, United States District Court for the Northern District of Florida, United States Courthouse, 1 North Palafox Street, Pensacola, Florida 32502. In addition, the proposed Consent Decree may be viewed at http://www.usdoj.gov/enrd/open.html.

Stephen Samuels,
Assistant Chief, Environmental Defense Section, Environment & Natural Resources Division.

[FR Doc. 06-9352 Filed 11-21-06; 8:45 am]

BILLING CODE 4410-15-M